DEPARTMENT OF COMMERCE

National Oceanic and Atmospheric Administration

[I.D. 103000D]

Mid-Atlantic Fishery Management Council; Public Meeting

AGENCY: National Marine Fisheries Service (NMFS), National Oceanic and Atmospheric Administration (NOAA), Commerce.

ACTION: Notice of public meeting.

SUMMARY: The Mid-Atlantic Fishery Management Council’s Spiny Dogfish Monitoring Committee will hold a public meeting.

DATES: The meeting will be held on Friday, November 17, 2000, from 10 a.m. until 5 p.m.

ADDRESSES: This meeting will be held at the Comfort Inn at the Airport (Providence), 1940 Post Road, Warwick, RI; telephone: 401-732-0470.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The following agenda items will be discussed: Update current stock status, yield estimates based on F= 0.027 and current stock size, review 2000-01 measures and fishery performance, recommended management measures for 2001-02.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Council office (see ADDRESSES) at least 5 days prior to the meeting date.

Dated: October 31, 2000.
Richard W. Surdi,
Acting Director, Office of Sustainable Fisheries, National Marine Fisheries Service.

[FR Doc. 00-28303 Filed 11-2-00; 8:45 am]

BILLING CODE: 3510-22-S